DEPARTMENT OF COMMERCE

Submission for OMB Review; Comment Request

The Department of Commerce has submitted to the Office of Management and Budget (OMB) for clearance the following proposal for collection of information under the provisions of the Paperwork Reduction Act (44 U.S.C. Chapter 35).

Agency: National Telecommunications and Information Administration (NTIA).

Title: Public Telecommunications Facilities Program (PTFP) Grant Monitoring.

Form Number(s): None.

OMB Approval Number: 0660-0001.

Type of Review: Regular submission.

Burden Hours: 6,779.

Number of Respondents: 1,950.

Average Hours Per Response: 28 hours for online responses and 39 hours for paper responses.

Needs and Uses: The Public Broadcasting Act authorizes grants to be awarded for the planning and construction of public telecommunications facilities. NTIA/PTFP must collect construction schedules/planning timetables that gives NTIA/PTFP the ability to monitor a project. Quarterly performance reports are required to alert NTIA/PTFP if the project is falling behind in its completion. The close-out reports ensure that Federal funds were expended in accordance with the grant award. Annual reports help maintain and protect the Federal interest for the statutorily-specified 10-year period.

Affected Public: Not-for-profit institutions; State, Local, or Tribal government.

Frequency: Quarterly, annually.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, Room 10202, New Executive Office Building, Washington, DC 20503.

Dated: June 6, 2003.
Gwellnar Banks,
Management Analyst, Office of the Chief Information Officer.

[FR Doc. 03-14794 Filed 6-10-03; 8:45 am]

BILLING CODE 3510-60-P